SOCIAL SECURITY ADMINISTRATION

20 CFR Parts 404 and 416

[Regulations Nos. 4 and 16]

Revised Medical Criteria for Evaluating Mental Disorders and Traumatic Brain Injury; Correction

AGENCY: Social Security Administration.

ACTION: Final rules; correction.

SUMMARY: We published in the Federal Register of August 21, 2000, a document concerning revising our regulations for evaluating mental impairments. Inadvertently §§ 404.1520a and 416.920a each contains a word from the prior rules that we had revised in the final rules. This document corrects that oversight.

DATES: Effective on September 20, 2000.

FOR FURTHER INFORMATION CONTACT: Deborah Barnes, Social Insurance Specialist, Social Security Administration, 6401 Security Boulevard, Baltimore, MD 21235-6401, deborah.barnes@ssa.gov, (410) 965-4171 or TTY (410) 966-5609 for information about these rules. For information on eligibility or filing for benefits, call our national toll-free number, 1-800-772-1213 or TTY 1-800-325-0778, or visit our Internet web site, SSA Online, at www.ssa.gov.

SUPPLEMENTARY INFORMATION: We published a document in the Federal Register of July 18, 1991 (56 FR 33130), proposing revisions to §§ 404.1520a and 416.920a. In the final rules we published in the Federal Register of August 21, 2000 (65 FR 50746), we inadvertently used the word “slight” from the prior rules for the second point of the five-point scale in §§ 404.1520a(c)(4) and 416.920a(c)(4). We intended to use the word “mild,” as we had proposed. This correction makes §§ 404.1520a(c)(4) and 416.920a(c)(4) consistent with the remainder of the final rules.

In the Federal Register of August 21, 2000, make the following corrections. On page 50775, in the first column, in § 404.1520a(c)(4), the first sentence, correct “slight” to read “mild.” On page 50783, in the first column, in § 416.920a(c)(4), the first sentence, correct “slight” to read “mild.”

§ 404.1520a Evaluation of Mental Impairments.

* * * * *

(c) * * *

(4) When we rate the degree of limitation in the first three functional areas (activities of daily living; social functioning; and concentration, persistence, or pace), we will use the following five-point scale: None, mild, moderate, marked, and extreme. * * *

* * * * *

§ 416.920a Evaluation of Mental Impairments.

* * * * *

(c) * * *

(4) When we rate the degree of limitation in the first three functional areas (activities of daily living; social functioning; and concentration, persistence, or pace), we will use the following five-point scale: None, mild, moderate, marked, and extreme. * * *

* * * * *

Dated: September 25, 2000.
Georgia E. Myers,
SSA Regulations Officer.

[FR Doc. 00-26091 Filed 10-11-00; 8:45 am]

BILLING CODE 4191-02-P